DEPARTMENT OF AGRICULTURE

Agricultural Marketing Service

[Docket # AMS-FV-07-0142]

United States Standards for Grades of Beet Greens

AGENCY: Agricultural Marketing Service, USDA.

ACTION: Notice.

SUMMARY: The Agricultural Marketing Service (AMS) is revising the voluntary United States Standards for Grades of Beet Greens. Specifically, AMS is removing the “Unclassified” category from the standards.

DATES: Effective Date: December 26, 2008.

FOR FURTHER INFORMATION CONTACT: Dr. Carl Newell, Standardization and Training Section, Fresh Products Branch, (540) 361-1120. The revised United States Standards for Grades of Beet Greens are available by accessing the Fresh Products Branch Web site at: http://www.ams.usda.gov/freshinspection.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs.

AMS is revising the United States Standards for Grades of Beet Greens using the procedures that appear in Part 36, Title 7 of the Code of Federal Regulations (7 CFR part 36). These standards were last revised June 1, 1959.

Background

Prior to undertaking detailed work to develop a proposed revision to the standards, AMS published a notice on February 19, 2008, in the Federal Register (73 FR 9086) soliciting comments on possible revisions to the United States Standards for Grades of Beet Greens, including an AMS proposal to remove the “Unclassified” category from the standards. No comments were received in response to the notice. A second notice was published on July 10, 2008, in the Federal Register (73 FR 39646) proposing to revise the standards to remove the “Unclassified” category from the standards. No comments were received in response to the second notice; accordingly, AMS is revising the grade standards for beet greens to include this revision.

The official grades of beet greens covered by these standards are determined by the procedures set forth in the Regulations Governing Inspection, Certification and Standards of Fresh Fruits, Vegetables and Other Products (7 CFR 51.1 to 51.62).

Authority: 7 U.S.C. 1621-1627.

Dated: November 20, 2008.
James E. Link,
Administrator, Agricultural Marketing Service.

[FR Doc. E8-28079 Filed 11-25-08; 8:45 am]

BILLING CODE 3410-02-P